DEPARTMENT OF TRANSPORTATION

Federal Aviation Administration

14 CFR Part 39

[Docket No. FAA-2016-9114; Directorate Identifier 2016-NM-146-AD; Amendment 39-18671; AD 2016-20-05]

RIN 2120-AA64

Airworthiness Directives; Saab AB, Saab Aeronautics (Formerly Known as Saab AB, Saab Aerosystems) Airplanes

AGENCY: Federal Aviation Administration (FAA), DOT.

ACTION: Final rule; request for comments.

SUMMARY: We are adopting a new airworthiness directive (AD) for all Saab AB, Saab Aeronautics Model SAAB 2000 airplanes. This AD requires an inspection to identify the type of fasteners installed on the upper longerons and upper fittings of the engine mounting structure (EMS), an inspection for discrepancies of certain fasteners, and corrective action if necessary. This AD was prompted by the discovery of blind fasteners installed in EMS upper fittings that do not meet the type design. We are issuing this AD to detect and correct discrepancies of blind fasteners that could cause crack development and vibration in the engine mount structure, which could lead to failure of the affected engine-mount-to-airplane structural connection and resultant detachment of an engine from the airplane when both sides of a nacelle are affected.

DATES: This AD becomes effective October 13, 2016.

The Director of the Federal Register approved the incorporation by reference of a certain publications listed in this AD as of October 13, 2016.

We must receive comments on this AD by November 14, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this final rule, contact Saab AB, Saab Aeronautics, SE-581 88, Linköping, Sweden; telephone +46 13 18 5591; fax +46 13 18 4874; email saab2000.techsupport@saabgroup.com; Internet http://www.saabgroup.com. You may view this referenced service information at the FAA, Transport Airplane Directorate, 1601 Lind Avenue SW., Renton, WA. For information on the availability of this material at the FAA, call 425-227-1221. It is also available on the Internet at http://www.regulations.gov by searching for and locating Docket No. FAA-2016-9114.

Examining the AD Docket

You may examine the AD docket on the Internet at http://www.regulations.gov by searching for and locating Docket No. FAA-2016-9114; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Branch, ANM-116, Transport Airplane Directorate, FAA, 1601 Lind Avenue SW., Renton, WA 98057-3356; telephone 425-227-1112; fax 425-227-1149.

SUPPLEMENTARY INFORMATION:

Discussion

The European Aviation Safety Agency (EASA), which is the Technical Agent for the Member States of the European Union, has issued EASA Airworthiness Directive 2016-0171, dated August 22, 2016 (referred to after this as the Mandatory Continuing Airworthiness Information, or “the MCAI”), to correct an unsafe condition for all Saab AB, Saab Aeronautics Model SAAB 2000 airplanes. The MCAI states:

During inspections, blind fasteners were found installed in engine mounting structure (EMS) upper fittings, frame NS204.7 and upper longerons. The type design specifies that the fasteners at this location must be Hi-Lok fasteners and two solid rivets (monel).

This condition, if not detected and corrected, could cause cracks development, vibration in the engine mount structure, leading to failure of the affected engine mount-to-aeroplane structural connection, possibly resulting in detachment of an engine from the aeroplane when affecting both sides of a nacelle.

To address this unsafe condition, SAAB issued Service Bulletin (SB) 2000-54-035 (hereafter referred to as `the SB' in this [EASA] AD) to provide inspection instructions.

For the reasons described above, this [EASA] AD requires a one-time * * * [general] visual inspection of the affected areas to determine which type(s) of fasteners are installed, and, depending on findings, accomplishment of applicable corrective action(s) [repair or additional actions as applicable]. This [EASA] AD also requires reporting of all inspection results to SAAB.

This [EASA] AD is considered an interim action and further AD action may follow.

Required actions include a detailed inspection for discrepancies, including gaps between the fastener head and structure, traces of movement, and deformation of the structure. You may examine the MCAI on the Internet at http://www.regulations.gov by searching for and locating Docket No. FAA-2016-9114.

Related Service Information Under 1 CFR Part 51

We reviewed SAAB 2000 Service Bulletin 2000-54-035, Revision 01, dated August 12, 2016. The service information describes procedures for an inspection to identify the type of fasteners installed on the upper longerons and upper fittings of the EMS, and a detailed inspection of incorrect (blind) fasteners to detect discrepancies, and corrective actions. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

An unsafe condition exists that requires the immediate adoption of this AD. The FAA has found that the risk to the flying public justifies waiving notice and comment prior to adoption of this rule because discrepancies of blind fasteners could cause crack development and vibration in the engine mount structure, which could lead to failure of the affected engine-mount-to-airplane structural connection and resultant detachment of an engine from the airplane when both sides of a nacelle are affected. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2016-9114; Directorate Identifier 2016-NM-146-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 8 airplanes of U.S. registry.

We also estimate that it will take about 4 work-hours per product to comply with the basic requirements of this AD. The average labor rate is $85 per work-hour. Based on these figures, we estimate the cost of this AD on U.S. operators to be $2,720, or $340 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-20-05 Saab AB, Saab Aeronautics (Formerly Known as Saab AB, Saab Aerosystems): Amendment 39-18671; Docket No. FAA-2016-9114; Directorate Identifier 2016-NM-146-AD.

(a) Effective Date

This AD becomes effective October 13, 2016.

(b) Affected ADs

None.

(c) Applicability

This AD applies to all Saab AB, Saab Aeronautics (formerly known as Saab AB, Saab Aerosystems) Model SAAB 2000 airplanes, certificated in any category.

(d) Subject

Air Transport Association (ATA) of America Code 54, Nacelles/pylons.

(e) Reason

This AD was prompted by the discovery of blind fasteners installed in engine mounting structure (EMS) upper fittings that do not meet the type design. We are issuing this AD to detect and correct discrepancies of blind fasteners that could cause crack development and vibration in the engine mount structure, which could lead to failure of the affected engine-mount-to-airplane structural connection and resultant detachment of an engine from the airplane when both sides of a nacelle are affected.

(f) Compliance

Comply with this AD within the compliance times specified, unless already done.

(g) Fastener Identification

Within 30 days or 150 flight hours after the effective date of this AD, whichever occurs first, do a general visual inspection of the upper longerons and upper fittings of the EMS to identify the type of fasteners installed, in accordance with the Accomplishment Instructions of SAAB 2000 Service Bulletin 2000-54-035, Revision 01, dated August 12, 2016.

(h) Inspection for Discrepancies

For any fastener other than the fasteners specified in SAAB 2000 Service Bulletin 2000-54-035, Revision 01, dated August 12, 2016, found during the inspection required by paragraph (g) of this AD: Before further flight, do a detailed inspection for discrepancies of those fasteners, including gaps between the fastener heads and structure, traces of movement, and deformation of the structure, in accordance with the Accomplishment Instructions of SAAB 2000 Service Bulletin 2000-54-035, Revision 01, dated August 12, 2016.

(i) Corrective Action

(1) If, during the inspection as required by paragraph (h) of this AD, any gap between the fastener heads and structure, traces of movement, or deformation of the structure is found: Before further flight obtain repair instructions from the Manager, International Branch, ANM-116, Transport Airplane Directorate, FAA; or the European Aviation Safety Agency (EASA); or Saab AB, Saab Aeronautics' EASA Design Organization Approval (DOA); and before further flight accomplish those instructions accordingly.

(2) If all fasteners inspected as required by paragraph (h) of this AD are firmly attached, and no deformation of the structure is found: Within 30 days or 150 flight hours after the effective date of the AD, whichever occurs first, obtain repair instructions from the Manager, International Branch, ANM-116, Transport Airplane Directorate, FAA; or EASA; or Saab AB, Saab Aeronautics' EASA DOA; and at the applicable time required in the repair instructions, accomplish the repair accordingly.

(j) Credit for Previous Actions

This paragraph provides credit for actions required by paragraphs (g) and (h) of this AD, if those actions were performed before the effective date of this AD using SAAB 2000 Service Bulletin 2000-54-035, dated July 22, 2016.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, WA 98057-3356; telephone 425-227-1112; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Saab AB, Saab Aeronautics' EASA DOA. If approved by the DOA, the approval must include the DOA-authorized signature.

(l) Related Information

(1) Refer to Mandatory Continuing Airworthiness Information (MCAI) EASA Airworthiness Directive 2016-0171, dated August 22, 2016, for related information. You may examine the MCAI on the Internet at http://www.regulations.gov by searching for and locating Docket No. FAA-2016-9114.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) SAAB 2000 Service Bulletin 2000-54-035, Revision 01, dated August 12, 2016.

(ii) Reserved.

(3) For service information identified in this AD, contact Saab AB, Saab Aeronautics, SE-581 88, Linköping, Sweden; telephone +46 13 18 5591; fax +46 13 18 4874; email saab2000.techsupport@saabgroup.com; Internet http://www.saabgroup.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 14, 2016.
Michael Kaszycki,
Acting Manager, Transport Airplane Directorate, Aircraft Certification Service.

[FR Doc. 2016-23081 Filed 9-27-16; 8:45 am]

BILLING CODE 4910-13-P